DEPARTMENT OF AGRICULTURE

Forest Service

Siskiyou County Resource Advisory Committee; Meeting

AGENCY: Forest Service, USDA.

ACTION: Notice of meeting

SUMMARY: The Siskiyou County Resource Advisory Committee (RAC) will meet on June 17, 2002, in Yreka, California. The purpose of the meeting is to discuss the following topics: Approval of Previous Meeting Minutes; Rating Criteria Review and Design; Timeline for RFPs from subgroup; Funding mechanisms status (report from Forest Service); Review successful and unsuccessful letters; 15% Merchantable Material Discussion; discussion of process for proxy votes; Finalize the standards and time lines for the FY2002 proposal packets; Finalize the agenda for the July 15, 2002 meeting.

DATES: The meetings will be held June 17, 2002 from 4 p.m. to 7 p.m.

ADDRESSES: The meeting will be held at the Yreka High School Library, Preece Way, Yreka, California.

FOR FURTHER INFORMATION CONTACT: Brian Harris, Meeting Coordinator, USDA, Klamath National Forest, 1312, Fairlane Road, Yreka, California, 96097, (530) 841-4485; e-mail bdharris@fs.fed.us

SUPPLEMENTARY INFORMATION: The meeting is open to the public. Public comment opportunity will be provided and individuals will have the opportunity to address the Committee at that time.

Dated: May 31, 2002.
Margaret J. Boland,
Forest Supervisor.

[FR Doc. 02-14248 Filed 6-6-02; 8:45 am]

BILLING CODE 3410-11-M